FARM CREDIT SYSTEM INSURANCE CORPORATION

12 CFR Part 1411

RIN 3055-AA22

Rules of Practice and Procedure; Adjusting Civil Money Penalties for Inflation

Correction

In rule document 2024-339 appearing on page 1445 in the issue of Wednesday, January 10, 2024, make the following correction:

In the first column, in the third line, the Regulatory Index Number (RIN) should read as set forth above.

[FR Doc. C1-2024-00339 Filed 1-12-24; 8:45 am]

BILLING CODE 0099-10-D